DEPARTMENT OF HEALTH AND HUMAN SERVICES

Centers for Disease Control and Prevention

Advisory Committee on Immunization Practices (ACIP)

In accordance with section 10(a)(2) of the Federal Advisory Committee Act (Pub. L. 92-463), the Centers for Disease Control and Prevention (CDC), announces the following meeting for the aforementioned committee:

Time and Date: 8 a.m.-6 p.m., February 27, 2008; 8 a.m.-5 p.m., February 28, 2008.

Place: Centers for Disease Control and Prevention, Tom Harkin Global Communications Center, 1600 Clifton Road, NE., Building 19, Kent “Oz” Nelson Auditorium, Atlanta, Georgia 30333.

Status: Open to the public, limited only by the space available.

Purpose: The committee is charged with advising the Director, CDC, on the appropriate uses of immunizing agents. In addition, under 42 U.S.C.1396s, the committee is mandated to establish and periodically review and, as appropriate, revise the list of vaccines for administration to vaccine-eligible children through the Vaccines for Children (VFC) program, along with schedules regarding the appropriate periodicity, dosage, and contraindications applicable to the vaccines.

Matters To Be Discussed: The agenda will include discussions on Influenza Vaccines; Meningococcal Conjugate Vaccine; Rabies Vaccine and Biologicals; Human Papillomavirus Vaccines; Anthrax Vaccine; Rotavirus Vaccines; Use of Vaccines during Pregnancy & Breastfeeding; Update on Vaccine Supply; General Recommendations; Japanese Encephalitis Vaccines; Immunization Safety Update; Combination Vaccines; Update on Implementation of Approach to Economic Analyses and agency updates. There may be VFC voting on the Influenza and Meningococcal Vaccines.

Agenda items are subject to change as priorities dictate.

Contact Person for More Information: Antonette Hill, Immunization Services Division, National Center for Immunization and Respiratory Diseases, CDC, 1600 Clifton Road, NE., Mailstop E-05, Atlanta, Georgia 30333, Telephone (404) 639-8836, Fax (404) 639-8905.

The Director, Management Analysis and Services Office, has been delegated the authority to sign Federal Register notices pertaining to announcements of meetings and other committee management activities for both the CDC and ATSDR.

Dated: January 18, 2008.
Diane Allen,
Acting Director, Management Analysis and Services Office, Centers for Disease Control and Prevention.

[FR Doc. E8-1457 Filed 1-28-08; 8:45 am]

BILLING CODE 4160-18-P